ENVIRONMENTAL PROTECTION AGENCY

[FRL-8954-4]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 1695.09; Emissions Certification and Compliance Requirements for Nonroad Spark-ignition Engines (Renewal); 40 CFR parts 90, 1048, 1051, 1065, and 1068; was approved on 08/02/2009; OMB Number 2060-0338; expires on 08/31/2012; Approved without change.

EPA ICR Number 2071.04; NESHAP for Printing, Coating and Dyeing of Fabrics and Other Textiles; 40 CFR part 63, subpart A; 40 CFR part 63, subpart OOOO; was approved on 08/02/2009; OMB Number 2060-0522; expires on 08/31/2012; Approved without change.

EPA ICR Number 2003.04; NESHAP for Integrated Iron and Steel Manufacturing; 40 CFR part 63, subpart A; 40 CFR part 63, subpart FFFFF; was approved on 08/03/2009; OMB Number 2060-0517; expires on 08/31/2012; Approved without change.

EPA ICR Number 1541.09; NESHAP for Benzene Waste Operations; 40 CFR part 61, subpart FF; 40 CFR part 63, subpart A; was approved on 08/03/2009; OMB Number 2060-0183; expires on 08/31/2012; Approved without change.

EPA ICR Number 2029.04; NESHAP for Asphalt Processing and Asphalt Roofing Manufacturing; 40 CFR part 63, subpart A; 40 CFR part 63, subpart LLLLL; was approved on 08/03/2009; OMB Number 2060-0520; expires on 08/31/2012; Approved without change.

EPA ICR Number 2367.01; Consumer Research through Focus Groups to Develop Improved Labeling for Pesticide Products (formerly identified as EPA ICR 2297.01); 40 CFR part 156; was approved on 08/07/2009; OMB Number 2070-0175; expires on 08/31/2012; Approved without change.

EPA ICR Number 2023.04; NESHAP for Clay Ceramics Manufacturing; 40 CFR part 60, subpart A; 40 CFR part 60, subpart KKKKK; was approved on 08/07/2009; OMB Number 2060-0513; expires on 08/31/2012; Approved without change.

EPA ICR Number 2251.03; Control of Emissions from Nonroad Spark-Ignition Engines and Equipment (Change); 40 CFR part 1065; was approved on 08/11/2009; OMB Number 2060-0603; expires on 07/31/2012; Approved without change.

EPA ICR Number 1292.08; Enforcement Policy Regarding the Sale and Use of Aftermarket Catalytic Converters (Renewal); 40 CFR part 85, subpart V; was approved on 08/16/2009; OMB Number 2060-0135; expires on 08/31/2012; Approved without change.

EPA ICR Number 2195.03; Submission of Protocols and study Reports for Environmental Research Involving Human Subjects; 40 CFR part 26; was approved on 08/16/2009; OMB Number 2070-0169; expires on 08/31/2012; Approved without change.

EPA ICR Number 1426.08; EPA Worker Protection Standards for Hazardous Waste Operations and Emergency Response (Renewal); 40 CFR part 311; was approved on 08/16/2009; OMB Number 2050-0105; expires on 08/31/2012; Approved without change.

EPA ICR Number 2365.01; Chesapeake Action Plan/Activity Integration Plan (CAP/AIP) Reporting System; was approved on 08/17/2009; OMB Number 2003-0001; expires on 02/28/2010; Approved without change.

EPA ICR Number 1031.09; Recordkeeping and Reporting Requirements for Allegations of Significant Adverse Reactions to Human Health or the Environment (TSCA Section 8(c)); 40 CFR part 717; was approved on 08/19/2009; OMB Number 2070-0017; expires on 08/31/2012; Approved without change.

EPA ICR Number 1938.04; NESHAP for Municipal Solid Waste Landfills; 40 CFR part 63, subpart A; 40 CFR part 63, subpart AAAA; was approved on 08/19/2009; OMB Number 2060-0505; expires on 08/31/2012; Approved without change.

EPA ICR Number 2196.03; NSPS for Stationary Compression Ignition Internal Combustion Engines; 40 CFR part 60, subpart A; 40 CFR part 60, subpart IIII; was approved on 08/19/2009; OMB Number 2060-0590; expires on 08/31/2012; Approved without change.

EPA ICR Number 0997.09; NSPS for Petroleum Dry Cleaners; 40 CFR part 60, subpart A; 40 CFR part 60, subpart JJJ; was approved on 08/19/2009; OMB Number 2060-0079; expires on 08/31/2012; Approved without change.

EPA ICR Number 2344.01; Auto-Body Compliance Assessment Pilot Project (New); was approved on 08/19/2009; OMB Number 2020-0034; expires on 08/31/2012; Approved with change.

EPA ICR Number 1891.05; NESHAP for Publicly Owned Treatment Works; 40 CFR part 63, subpart A; 40 CFR part 63, subpart VVV; was approved on 08/19/2009; OMB Number 2060-0428; expires on 08/31/2012; Approved without change.

EPA ICR Number 1995.04; NESHAP for Coke Oven Pushing Quenching and Battery Stacks; 40 CFR part 63, subpart CCCCC; 40 CFR part 63, subpart A ; was approved on 08/19/2009; OMB Number 2060-0521; expires on 08/31/2012; Approved without change.

EPA ICR Number 1904.05; The Sun Wise School Program (Change); was approved on 08/20/2009; OMB Number 2060-0439; expires on 02/28/2011; Approved with change.

EPA ICR Number 0261.16; Notification of Regulated Waste Activity (Renewal); 40 CFR 264.11; 40 CFR 262.12; 40 CFR 263.11; 40 CFR 266.21-266.23; 40 CFR 266.70; 40 CFR 266.80; 40 CFR 266.100-266.103; 40 CFR 266.108; 40 CFR 270.1; 40 CFR 273.54; 40 CFR 273.60; 40 CFR 279.42; 40 CFR 279.51; 40 CFR 279.62; 40 CFR 279.73; was approved on 08/20/2009; OMB Number 2050-0028; expires on 08/31/2012; Approved without change.

EPA ICR Number 1571.09; General Hazardous Waste Facility Standards (Renewal); 40 CFR parts 264, 265 and 270; was approved on 08/20/2009; OMB Number 2050-0120; expires on 08/31/2012; Approved without change.

EPA ICR Number 1617.06; Servicing of Motor Vehicle Air Conditioners (Renewal); 40 CFR 82.30; was approved on 08/27/2009; OMB Number 2060-0247; expires on 08/31/2012; Approved without change.

EPA ICR Number 1613.03; Data Reporting Requirements for State and Local Vehicle Emission Inspection and Maintenance (I/M) Programs (Renewal); 40 CFR part 51, subpart S; was approved on 08/27/2009; OMB Number 2060-0252; expires on 08/31/2012; Approved without change.

EPA ICR Number 0783.54; Motor Vehicle Emissions and Fuel Economy Compliance: Light Duty Vehicles, Light Duty Trucks, and Highway Motorcycles (Renewal); 40 CFR part 600; 40 CFR part 86, subparts E and F; 40 CFR 86.1845-86.1848; 40 CFR parts 85 and 86; 40 CFR 85.1901-85.1908; was approved on 08/31/2009; OMB Number 2060-0104; expires on 08/31/2012; Approved without change.

EPA ICR Number 0152.09; Notice of Arrival of Pesticides and Devices (FIFRA); 19 CFR 12.112; was approved on 08/31/2009; OMB Number 2070-0020; expires on 08/31/2012; Approved without change.

Comment Filed

EPA ICR Number 2352.01; NESHAP for Asphalt Processing and Asphalt Roofing Manufacturing; in 40 CFR part 63, subpart AAAAAA; OMB filed comment on 08/11/2009.

EPA ICR Number 2354.01; National Emission Standards for Hazardous Air Pollutants for Area Sources: Prepared Feeds Manufacturing; in 40 CFR part 63, subpart DDDDDDD; OMB filed comment on 08/18/2009.

EPA ICR Number 2356.01; NESHAP for Chemical Preparations Industry; in 40 CFR part 63, subpart BBBBBBB; OMB filed comment on 08/18/2009.

EPA ICR Number 2321.01; Waste Energy Recovery Registry (Proposed Rule); in 40 CFR part 1200; OMB filed comment on 08/17/2009.

EPA ICR Number 2358.01; Nitrogen Oxides Ambient Air Monitoring (Proposed Rule); in 40 CFR part 58; OMB filed comment on 08/17/2009.

Disapproved

EPA ICR Number 2299.01; Tribal Capacity: Determining the Capability to Participate in the National Environmental Information Exchange Network Program; was disapproved by OMB on 08/17/2009.

Withdrawn and Continue

EPA ICR Number 2297.01; Use of Consumer Research in Developing Improved Labeling for Pesticide Products; Withdrawn from OMB on 08/03/2009.

Dated: September 2, 2009.
John Moses,
Director, Collections Strategies Division.

[FR Doc. E9-21710 Filed 9-8-09; 8:45 am]

BILLING CODE 6560-50-P